DEPARTMENT OF VETERANS AFFAIRS

Research and Development Office

Government Owned Inventions Available for Licensing

AGENCY: Research and Development Office, Veterans Affairs.

ACTION: Notice of Government Owned Inventions Available for Licensing.

SUMMARY: The inventions listed below are owned by the U.S. Government as represented by the Department of Veterans Affairs, and are available for licensing in accordance with 35 U.S.C. 207 and 37 CFR part 404 to achieve expeditious commercialization of results of federally-funded research and development. Foreign patents are filed on selected inventions to extend market coverage for U.S. companies and may also be available for licensing.

FOR FURTHER INFORMATION CONTACT: Technical and licensing information on these inventions may be obtained by writing to: Mindy Aisen, MD, Department of Veterans Affairs, Director Technology Transfer Program, Research and Development Office, 810 Vermont Avenue, NW, Washington, DC 20420; fax: 202-275-7228; e-mail at mindy.aisen@mail.va.gov.

Any request for information should include the number and title for the revelant invention as indicated below. Issued patents may be obtained from the Commissioner of Patents, U.S. Patent and Trademark Office, Washington, DC 20231.

SUPPLEMENTARY INFORMATION: The inventions available for licensing are:

09/241,987 “Methods for identifying a Preferred Liver Transplant Donor”.

09/546,860 “A Novel Solution for the Ex-Vivo Preservation of Cardiovascular Tissue.”

09/570,454 “Isolation and Characterization of Epidermal Growth Factor-Related Protein.”

09/595,875 “Antagonism of Immunostimulatory CpG-Oligonucleotides by 4-Aminoquinolines and Other Weak Bases.”

09/746,555 “N-Terminal D(-) - Pencillamine Peptides as Aldehyde Sequestration Agents.”

09/793,533 “Method and Compound for Antagonizing Inhibition Effects of Alcohol on Cell Adhesion.”

09/867,521 “Isolation and Characterization of a Rat Epidermal Growth Factor-Related Protein.”

Dated: August 27, 2001.
Anthony J. Principi,
Secretary, Department of Veterans Affairs.

[FR Doc. 01-22072 Filed 8-30-01; 8:45 am]

BILLING CODE 8320-01-P